DEPARTMENT OF COMMERCE

National Oceanic and Atmospheric Administration

[I.D. 020300B]

Marine Mammals; File Nos. 675-1563, 378-1564 and P595

AGENCY: National Marine Fisheries Service (NMFS), National Oceanic and Atmospheric Administration (NOAA), Commerce.

ACTION: Receipt of applications.

SUMMARY: Notice is hereby given that Dr. Graham A.J. Worthy (File No. 675-1563), Physiological Ecology and Bioenergetics Laboratory, Department of Marine Biology, Texas A&M University, 5001 Avenue U, Suite 105, Galveston, TX 77551; Alaska Department of Fish and Game (File No. 358-1564), Division of Wildlife Conservation, 1255 W. 8th Street, P.O. Box 25526, Juneau, AK 99802-5526, have each applied in due form for a permit to take marine mammals for purposes of scientific research; and the Whale Conservation Institute (File No. P595), 191 Weston Road, Lincoln, Massachusetts 01773, requests an amendment to Permit No. 1004.

DATES: Written or telefaxed comments must be received on or before March 13, 2000.

ADDRESSES: All applications and related documents are available for review upon written request or by appointment in the Permits and Documentation Division, Office of Protected Resources, NMFS, 1315 East-West Highway, Room 13130, Silver Spring, MD 20910 (301/713-2289); and

File Nos. 675-1563 and 358-1564: Alaska Region, NMFS, P.O. Box 21668, Juneau, AK 99802-1668 (907/586-7221);

File No. P595: Northeast Region, NMFS, One Blackburn Drive, Gloucester, MA 01930, (978/281-9250); and

File No. 675-1563: Southeast Region, NMFS, 9721 Executive Center Drive North, St. Petersburg, FL 33702-2432 (813/570-5312).

FOR FURTHER INFORMATION CONTACT: Ruth Johnson, 301/713-2289.

SUPPLEMENTARY INFORMATION: The subject permits and amendment request are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

File No. 675-1563, Dr. Graham Worthy requests authority to take up to 30 northern fur seal (Callorhinus ursinus) mother/pup pairs and 30 additional pups over a 3-year period. Animals will be blood and tissue sampled and flipper tagged. Adult females will have a milk sample extracted. Activities will occur on the Pribilof Islands, Alaska.

File No. 358-1564, Alaska Department of Fish and Game (ADF&G) requests authority to take Steller sea lions (Eumetopias jubatus) over a 5-year period. Animals of all ages and both sexes will be taken during aerial and land-based surveys, capture and release activities that include tissue and blood sampling, tagging and attachment of scientific instruments, branding, and administering immobilizing drugs. Activities will occur in Alaska and British Columbia.

File No. P595, Whale Conservation Institute, Permit No. 1004 authorizes the Holder to import right whale tissue samples, and samples from other cetaceans, from Argentina, Mexico, Costa Rica, Ecuador, Peru, and Chile. The Holder requests an amendment to: increase the number of samples to be imported; increase the number of locations where samples are taken and imported; and extend the permit one additional year.

In compliance with the National Environmental Policy Act of 1969 (42 U.S.C. 4321 et seq.), an initial determination has been made that the activity proposed is categorically excluded from the requirement to prepare an environmental assessment or environmental impact statement.

Written comments or requests for a public hearing on these applications should be mailed to the Chief, Permits and Documentation Division, F/PR1, Office of Protected Resources, NMFS, 1315 East-West Highway, Room 13705, Silver Spring, MD 20910. Those individuals requesting a hearing should set forth the specific reasons why a hearing on these particular requests would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of these applications to the Marine Mammal Commission and its Committee of Scientific Advisors.

Dated: February 3, 2000.
Jeannie Drevenak,
Acting Chief, Permits and Documentation Division, Office of Protected Resources, National Marine Fisheries Service.

[FR Doc. 00-3284 Filed 2-10-00; 8:45 am]

BILLING CODE 3510-22-F